POSTAL REGULATORY COMMISSION

[Docket No. CP2020-120; Order No. 5479]

Competitive Postal Products

AGENCY: Postal Regulatory Commission.

ACTION: Notice.

SUMMARY: The Commission is acknowledging a recent filing by the Postal Service of specific rates for its Inbound Letter Post Small Packets and Bulky Letters product effective January 1, 2021. This notice informs the public of the filing, invites public comment, and takes other administrative steps.

DATES: Comments are due: April 27, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Administrative Actions

IV. Ordering Paragraphs

I. Introduction

On April 10, 2020, the Postal Service filed a notice of specific rates for its Inbound Letter Post Small Packets and Bulky Letters product effective January 1, 2021.¹ The Postal Service requests that the Commission favorably review the proposed prices so that the Postal Service may submit the prices to the Universal Postal Union (UPU) before the June 1, 2020 deadline. Notice at 5.

¹ Notice of the United States Postal Service of Specific Rates Not of General Applicability for Inbound E-Format Letter Post for 2021, and Application for Non-Public Treatment, April 10, 2020, at 1 (Notice).

II. Contents of Filing

In its Notice, the Postal Service proposes new prices for the Inbound Letter Post Small Packets and Bulky Letters product. Notice at 1. Under the Universal Postal Convention, by June 1, 2020, the Postal Service may submit self-declared rates for Inbound Letter Post Small Packets and Bulky Letters that would take effect on January 1, 2021.² The Postal Service states that the proposed prices comply with 39 U.S.C. 3633(a). Notice at 4. To support its proposed Inbound Letter Post Small Packets and Bulky Letters prices, the Postal Service filed the proposed prices (Attachment 2); a copy of the certification required under 39 CFR 3015.5(c)(2) (Attachment 3); and a redacted copy of Governors' Decision 19-1. Id.; see id. Attachments 2-4. The Postal Service also filed redacted financial workpapers. Notice at 4.

² Id. at 2; Universal Postal Convention (UPU Convention) Article 28bis.1. UPU Convention is available at: http://www.upu.int/uploads/tx_sbdownloader/actsActsOfTheExtraordinaryCongressGenevaEn.pdf.

In addition, the Postal Service filed an unredacted copy of Governors' Decision 19-1, the unredacted new prices, and related financial information under seal. Id. The Postal Service also provided an application for non-public treatment of material filed under seal filed pursuant to 39 CFR part 3007. Id. Attachment 1.

III. Administrative Actions

The Commission establishes Docket No. CP2020-120 for consideration of matters raised by the Notice and appoints Katalin K. Clendenin to serve as Public Representative in this docket. The Commission invites comments on whether the Postal Service's filing is consistent with 39 U.S.C. 3632, 3633, and 39 CFR part 3015. Comments are due no later than April 27, 2020. The public portions of the filing can be accessed via the Commission's website (http://www.prc.gov). Non-public portions of the Postal Service's request, if any, can be accessed through compliance with the requirements of 39 CFR 3007.301.2.

IV. Ordering Paragraphs

It is ordered:

1. The Commission establishes Docket No. CP2020-120 for consideration of the matters raised by the Postal Service's Notice.

2. Comments are due no later than April 27, 2020.³

³ The Commission reminds interested persons that its revised and reorganized Rules of Practice and Procedure become effective April 20, 2020, and should be used in filings with the Commission after April 20, 2020. Beginning on that date, the rules will be available on the Commission's website. In the meantime, the new rules can be found in Order No. 5407, which was issued on January 16, 2020. Docket No. RM2019-13, Order Reorganizing Commission Regulations and Amending Rules of Practice, January 16, 2020 (Order No. 5407).

3. Pursuant to 39 U.S.C. 505, Katalin K. Clendenin will serve as an officer of the Commission (Public Representative) to represent the interests of the general public in these dockets.

4. The Secretary shall arrange for publication of this order in the Federal Register.

By the Commission.
Erica A. Barker,
Secretary.

[FR Doc. 2020-08077 Filed 4-16-20; 8:45 am]

BILLING CODE 7710-FW-P